DEPARTMENT OF LABOR

Office of the Secretary

Submission for OMB Review: Comment Request

April 24, 2008.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: OMB Desk Officer for the Employment and Training Administration (ETA), Office of Management and Budget, Room 10235, Washington, DC 20503, Telephone: 202-395-7316/Fax: 202-395-6974 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension without change of a currently approved collection.

Title: Report on Alien Claims Activity.

OMB Control Number: 1205-0268.

Form Number: ETA-9016.

Affected Public: State Governments.

Estimated Number of Respondents: 53.

Estimated Total Annual Burden Hours: 212.

Estimated Total Annual Costs Burden: $0.

Description: The ETA-9016 Report is used by the Department of Labor to assess whether (and the extent to which) the requirements of the Immigration and Naturalization Service (INS), Systematic Alien Verification for Entitlement (SAVE) system are cost-effective and otherwise appropriate for the Unemployment Insurance (UI) program. In addition, data from the Alien Claims Activity Report is being used to assist the Secretary of Labor in determining whether a State Workforce Agency's (SWA) administrative costs associated with the verification program are reasonable and reimbursable. For additional information, see related notice published at 73 FR 5875 on January 31, 2008.

Agency: Employment and Training Administration.

Type of Review: Revision of a currently approved collection.

Title: Work Opportunity Tax Credit (WOTC) and Welfare-to-Work (WtW) Tax Credit.

OMB Control Number: 1205-0371.

Form Numbers: ETA-9057; ETA-9058; ETA-9059; ETA-9061 (English); ETA-9061 (Spanish); ETA-9062; ETA-9063; and ETA-9065.

Affected Public: State Governments and Individuals.

Estimated Number of Respondents: 52 state entities and 990,000 individuals.

Estimated Total Annual Burden Hours: 848,325.

Estimated Total Annual Costs Burden: $0.

Description: Data and information provided by the states on these forms are used for program planning, evaluation of program performance and for oversight/verification activities as mandated by the Omnibus Budget Reconciliation Act of 1990 (Pub. L. 101-508) section 11405(c). For additional information, see related notice published at 73 FR 1648 on January 9, 2008.

Darrin A. King,
Acting Departmental Clearance Officer.

[FR Doc. E8-9673 Filed 5-1-08; 8:45 am]

BILLING CODE 4510-FM-P